DEPARTMENT OF THE INTERIOR

National Park Service

[NPS-WASO-NAGPRA-NPS0023998; PPWOCRADN0-PCU00RP14.R50000]

Notice of Intent To Repatriate Cultural Items: U.S. Department of Agriculture, Forest Service, Tonto National Forest, Phoenix, AZ

AGENCY: National Park Service, Interior.

ACTION: Notice.

SUMMARY: The U.S. Department of Agriculture (USDA), Forest Service, Tonto National Forest, has completed an inventory of unassociated funerary objects, in consultation with the appropriate Indian Tribes or Native Hawaiian organizations, and has determined that there is a cultural affiliation between the unassociated funerary objects and present-day Indian Tribes or Native Hawaiian organizations. Lineal descendants or representatives of any Indian Tribe or Native Hawaiian organization not identified in this notice that wish to request transfer of control of these cultural items should submit a written request to the Tonto National Forest. If no additional requestors come forward, transfer of control of the unassociated funerary objects to the lineal descendants, Indian Tribes, or Native Hawaiian organizations stated in this notice may proceed.

DATES: Lineal descendants or representatives of any Indian Tribe or Native Hawaiian organization not identified in this notice that wish to request transfer of control of these cultural items should submit a written request with information in support of the request to the Tonto National Forest at the address in this notice by September 29, 2017.

ADDRESSES: Neil Bosworth, Tonto National Forest, 2324 East McDowell Road, Phoenix, AZ 85206, telephone (602) 225-5201, email nbosworth@fs.fed.us.

SUPPLEMENTARY INFORMATION: Notice is here given in accordance with the Native American Graves Protection and Repatriation Act (NAGPRA), 25 U.S.C. 3005, of the intent to repatriate cultural items under the control of the Tonto National Forest, Phoenix, AZ, that meet the definition of unassociated funerary objects under 25 U.S.C. 3001.

This notice is published as part of the National Park Service's administrative responsibilities under NAGPRA, 25 U.S.C. 3003(d)(3). The determinations in this notice are the sole responsibility of the museum, institution, or Federal agency that has control of the unassociated funerary objects. The National Park Service is not responsible for the determinations in this notice.

History and Description of the Cultural Items

Prior to 1990, 11 unassociated funerary objects were removed from Six Shooter Canyon in Gila County, AZ. The unassociated funerary objects were donated to the Grand Canyon Museum and then transferred to the Tonto National Forest on December 29, 2016. The 11 unassociated funerary objects are three shell bracelets, three shell rings, and five turquoise tessera pieces. A detailed assessment of the unassociated funerary objects was made by the Tonto National Forest professional staff in consultation with representatives of the Salt River Pima-Maricopa Indian Community, who submitted a repatriation claim for the cultural items.

In accordance with the Plan for the Treatment and Disposition of Human Remains and Other Cultural Items from the Tonto National Forest Pursuant to the Native American Graves Protection and Repatriation Act (as revised in 2001), it has been determined that the primary cultural affiliation of these unassociated funerary objects is with the Ak-Chin Indian Community (previously listed as the Ak Chin Indian Community of the Maricopa (Ak Chin) Indian Reservation, Arizona); Gila River Indian Community of the Gila River Indian Reservation, Arizona; Salt River Pima-Maricopa Indian Community of the Salt River Reservation, Arizona; and the Tohono O'odham Nation of Arizona.

Determinations Made by the USDA, Forest Service, Tonto National Forest

Officials of the Tonto National Forest have determined that:

• Pursuant to 25 U.S.C. 3001(3)(B), the 11 objects described in this notice are reasonably believed to have been placed with or near individual human remains at the time of death or later as part of the death rite or ceremony.

• Pursuant to 25 U.S.C. 3001(2), there is a relationship of shared group identity that can be reasonably traced between the unassociated funerary objects and the Ak-Chin Indian Community (previously listed as the Ak Chin Indian Community of the Maricopa (Ak Chin) Indian Reservation, Arizona); Gila River Indian Community of the Gila River Indian Reservation, Arizona; Salt River Pima-Maricopa Indian Community of the Salt River Reservation, Arizona; and the Tohono O'odham Nation of Arizona.

Additional Requestors and Disposition

Lineal descendants or representatives of any Indian Tribe or Native Hawaiian organization not identified in this notice that wish to request transfer of control of these unassociated funerary objects should submit a written request with information in support of the request to Neil Bosworth, Tonto National Forest, 2324 E McDowell Road, Phoenix, AZ 85206, telephone (602) 225-5201, email nbosworth@fs.fed.us, by September 29, 2017. After that date, if no additional requestors have come forward, transfer of control of the unassociated funerary objects to the Salt River Pima-Maricopa Indian Community of the Salt River Reservation, Arizona, may proceed.

The Tonto National Forest is responsible for notifying the Ak-Chin Indian Community (previously listed as the Ak Chin Indian Community of the Maricopa (Ak Chin) Indian Reservation, Arizona); Gila River Indian Community of the Gila River Indian Reservation, Arizona; Salt River Pima-Maricopa Indian Community of the Salt River Reservation, Arizona; and the Tohono O'odham Nation of Arizona that this notice has been published.

Dated: August 14, 2017.
Sarah Glass,
Acting Manager, National NAGPRA Program.

[FR Doc. 2017-18346 Filed 8-29-17; 8:45 am]

BILLING CODE 4312-52-P